DEPARTMENT OF ENERGY

Federal Energy Regulatory Commission

Combined Notice of Filings #1

Take notice that the Commission received the following electric rate filings:

Docket Numbers: ER16-2122-001.

Applicants: Sunshine Gas Producers, LLC.

Description: Compliance filing: Sunshine Gas Producers MBR Revision Filing to be effective 5/14/2022.

Filed Date: 5/13/22.

Accession Number: 20220513-5125.

Comment Date: 5 p.m. ET 6/3/22.

Docket Numbers: ER21-2523-002.

Applicants: Gulf Power Company.

Description: Compliance filing: Order No. 676-I Compliance Filing to be effective 5/1/2022.

Filed Date: 5/13/22.

Accession Number: 20220513-5070.

Comment Date: 5 p.m. ET 6/3/22.

Docket Numbers: ER22-1385-000.

Applicants: BHER Market Operations, LLC.

Description: Supplement to March 18, 2022 BHER Market Operations, LLC Market-Based Rate Application.

Filed Date: 5/9/22.

Accession Number: 20220509-5186.

Comment Date: 5 p.m. ET 5/19/22.

Docket Numbers: ER22-1863-000.

Applicants: Arizona Public Service Company.

Description: Compliance filing: Order No. 881 Compliance Filing to be effective 5/13/2022.

Filed Date: 5/12/22.

Accession Number: 20220513-5000.

Comment Date: 5 p.m. ET 6/2/22.

Docket Numbers: ER22-1864-000.

Applicants: Alabama Power Company, Georgia Power Company, Mississippi Power Company.

Description: Tariff Amendment: Alabama Power Company submits tariff filing per 35.15: Iron City Solar LGIA Termination Filing to be effective 5/13/2022.

Filed Date: 5/13/22.

Accession Number: 20220513-5101.

Comment Date: 5 p.m. ET 6/3/22.

Docket Numbers: ER22-1865-000.

Applicants: PJM Interconnection, L.L.C.

Description: § 205(d) Rate Filing: Interim ISA, SA No. 6443; Queue No. AF1-158 to be effective 4/20/2022.

Filed Date: 5/13/22.

Accession Number: 20220513-5104.

Comment Date: 5 p.m. ET 6/3/22.

Docket Numbers: ER22-1866-000.

Applicants: Sunshine Gas Producers, LLC.

Description: § 205(d) Rate Filing: Sunshine Gas Producers MBR Revisions to be effective 5/14/2022.

Filed Date: 5/13/22.

Accession Number: 20220513-5108.

Comment Date: 5 p.m. ET 6/3/22.

Docket Numbers: ER22-1867-000.

Applicants: Lykins Energy Solutions.

Description: Notice of Cancellation of Market Based Rate Tariff of Lykins Energy Solutions.

Filed Date: 5/12/22.

Accession Number: 20220512-5170.

Comment Date: 5 p.m. ET 6/2/22.

Docket Numbers: ER22-1868-000.

Applicants: Midcontinent Independent System Operator, Inc., Hoosier Energy Rural Electric Cooperative, Pioneer Transmission LLC.

Description: § 205(d) Rate Filing: Midcontinent Independent System Operator, Inc. submits tariff filing per 35.13(a)(2)(iii): 2022-05-13_ROE Administrative Filing to be effective7/13/2022.

Filed Date: 5/13/22.

Accession Number: 20220513-5113.

Comment Date: 5 p.m. ET 6/3/22.

Docket Numbers: ER22-1869-000.

Applicants: Bishop Hill Energy LLC.

Description: Baseline eTariff Filing: Reactive Power Compensation Baseline to be effective 5/14/2022.

Filed Date: 5/13/22.

Accession Number: 20220513-5139.

Comment Date: 5 p.m. ET 6/3/22.

Docket Numbers: ER22-1870-000.

Applicants: Vansycle II Wind, LLC.

Description: Baseline eTariff Filing: Vansycle II Wind, LLC Application for Market-Based Rate Authorization to be effective 7/13/2022.

Filed Date: 5/13/22.

Accession Number: 20220513-5152.

Comment Date: 5 p.m. ET 6/3/22.

Docket Numbers: ER22-1871-000.

Applicants: Arizona Public Service Company.

Description: § 205(d) Rate Filing: Service Agreement No. 399—LGIA with AES to be effective 4/13/2022.

Filed Date: 5/13/22.

Accession Number: 20220513-5154.

Comment Date: 5 p.m. ET 6/3/22.

Docket Numbers: ER22-1872-000.

Applicants: PJM Interconnection, L.L.C.

Description: § 205(d) Rate Filing: Original NSA, Service Agreement No. 6469; Queue No. AE2-059 to be effective 4/13/2022.

Filed Date: 5/13/22.

Accession Number: 20220513-5155.

Comment Date: 5 p.m. ET 6/3/22.

Docket Numbers: ER22-1873-000.

Applicants: Arizona Public Service Company.

Description: Tariff Amendment: Service Agreement No. 386—Notice of Cancellation to be effective 7/13/2022.

Filed Date: 5/13/22.

Accession Number: 20220513-5157.

Comment Date: 5 p.m. ET 6/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2022.
Kimberly D. Bose,
Secretary.

[FR Doc. 2022-10778 Filed 5-18-22; 8:45 am]

BILLING CODE 6717-01-P